DEPARTMENT OF HOMELAND SECURITY

Coast Guard

33 CFR Part 100

[Docket No. USCG-2017-0763]

Special Local Regulation; Southern California Annual Marine Events for the San Diego Captain of the Port Zone—San Diego Bayfair

AGENCY: Coast Guard, DHS.

ACTION: Notice of enforcement regulation.

SUMMARY: The Coast Guard will enforce the San Diego Bayfair special local regulations on the waters of Mission Bay, California from 7 a.m. to 6 p.m. from September 15, 2017, to September 17, 2017. These special local regulations are necessary to provide for the safety of the participants, crew, spectators, sponsor vessels, and general users of the waterway. During the enforcement period, persons and vessels are prohibited from anchoring, blocking, loitering, or impeding within this regulated area unless authorized by the Captain of the Port, or his designated representative.

DATES: The regulations in 33 CFR 100.1101, Table 1, Item 12, will be enforced from 7 a.m. September 15, 2017, through 6 p.m. September 17, 2017.

FOR FURTHER INFORMATION CONTACT: If you have questions about this publication of enforcement, call or email Lieutenant Junior Grade Briana Biagas, Waterways Management, U.S. Coast Guard Sector San Diego, CA; telephone (619) 278-7656, email D11MarineEventsSD@uscg.mil.

SUPPLEMENTARY INFORMATION: The Coast Guard will enforce the special local regulations for the San Diego Bayfair race event in Mission Bay, CA in 33 CFR 100.1101, Table 1, Item 12, of that section from 7 a.m. on September 15, 2017 until 6 p.m. September 17, 2017. This action is being taken to provide for the safety of life on navigable waterways during the race. The Coast Guard's regulation for recurring marine events in the San Diego Captain of the Port Zone identifies the regulated area for this event. Under the provisions of 33 CFR 100.1101, persons and vessels are prohibited from anchoring, blocking, loitering, or impeding within this regulated area unless authorized by the Captain of the Port, or his designated representative. The Coast Guard may be assisted by other Federal, State, or local law enforcement agencies in enforcing this regulation.

This document is issued under authority of 5 U.S.C. 552 (a) and 33 CFR 100.1101. In addition to this document in the Federal Register, the Coast Guard will provide the maritime community with advance notification of this enforcement period via the Local Notice to Mariners, Broadcast Notice to Mariners, and local advertising by the event sponsor.

If the Captain of the Port Sector San Diego or his designated representative determines that the regulated area need not be enforced for the full duration stated on this document, he or she may use a Broadcast Notice to Mariners or other communications coordinated with the event sponsor to grant general permission to enter the regulated area.

Dated: August 9, 2017.
J.R. Buzzella,
Captain, U.S. Coast Guard, Captain of the Port San Diego.

[FR Doc. 2017-17959 Filed 8-23-17; 8:45 am]

BILLING CODE 9110-04-P